DEPARTMENT OF JUSTICE

Antitrust Division

Notice Pursuant to the National Cooperative Research and Production Act of 1993—Cooperative Research Group Corrosion Under Insulation—Phase 2 (CUI—Phase 2)

Notice is hereby given that, on January 6, 2025, pursuant to section 6(a) of the National Cooperative Research and Production Act of 1993, 15 U.S.C. 4301 et seq. (“the Act”), Cooperative Research Group Corrosion Under Insulation—Phase 2 (CUI—Phase 2) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to section 6(b) of the Act, the identities of the parties to the venture are: Conoco Phillips Company, Houston, TX; Nanotech Inc., Houston, TX; Armancell Engineered Systems Ltd., London, UNITED KINGDOM; The Sherwin Williams Company, Cleveland, OH; PPG Industries, Incorporated, Pittsburgh, PA; International Paint LLC, Houston, TX; Superior Products International II, Inc., Shawnee, KS; Promat Incorporated, Maryville, TN; Jotun A/S, Sandefjord, KINGDOM OF NORWAY; Hempel A/S, Lyngby, KINGDOM OF DENMARK; BP America Production Company, Houston, TX; Air Products and Chemicals, Inc., Allentown, PA; Aspen Aerogels, Inc., Marlborough, MA; Exxonmobil Technology and Engineering, Spring, TX; and Equinor Energy AS, Stavanger, KINGDOM OF NORWAY. The general area of CUI—Phase 2's planned activities are to test the performance of protective coating and insulation products including insulative coatings using the TM21442 test method and a variant of that approach. In addition to the laboratory and field activities, Phase 2 CUI JIP will be used to test, in laboratory setups, promising CUI sensing technologies suitable for CUI monitoring. These preliminary tests will investigate and compare the performance of a range of CUI sensors using the test methodologies proposed above. The CUI Phase 2 JIP shall focus on four primary technical tasks as follows: performance testing of CUI Protective Coating/Insulation Systems; performance evaluation of CUI Insulative Coatings; performance evaluation of CUI Insulative Coatings; and preliminary evaluation of CUI Sensors.

Suzanne Morris,
Deputy Director Civil Enforcement Operations, Antitrust Division.

[FR Doc. 2025-10815 Filed 6-12-25; 8:45 am]

BILLING CODE P